DEPARTMENT OF HEALTH AND HUMAN SERVICES

National Institutes of Health

National Institute of Nursing Research; Amended Notice of Meeting

Notice is hereby given of a change in the meeting of the National Institute of Nursing Research Special Emphasis Panel, February 19, 2021, 10:00 a.m. to 2:00 p.m., 6701 Democracy Blvd., Democracy One, Bethesda, MD 20892, which was published in the Federal Register on January 14, 2021, 86 FR 3163.

The NINR Special Emphasis Panel meeting is being amended due to a change in the meeting time. This meeting held on February 19, 2021 will now start at 2:00 p.m. and will adjourn at 4:00 p.m. The meeting is closed to the public.

Dated: January 21, 2021.
Melanie J. Pantoja,
Program Analyst, Office of Federal Advisory Committee Policy.

[FR Doc. 2021-01704 Filed 1-26-21; 8:45 am]

BILLING CODE 4140-01-P